DEPARTMENT OF HEALTH AND HUMAN SERVICES

Centers for Medicare & Medicaid Services

42 CFR Parts 405, 410, 411, 412, 413, 416, 419, 424, 485, and 489

[CMS-1772-FC; CMS-1744-F; CMS-3419-F; CMS-5531-F; CMS-9912-F]

RIN 0938-AU82

Medicare Program: Hospital Outpatient Prospective Payment and Ambulatory Surgical Center Payment Systems and Quality Reporting Programs; Organ Acquisition; Rural Emergency Hospitals: Payment Policies, Conditions of Participation, Provider Enrollment, Physician Self-Referral; New Service Category for Hospital Outpatient Department Prior Authorization Process; Overall Hospital Quality Star Rating; COVID-19

C1-2022-23918, published at 88 FR 57901 on August 24, 2023, is withdrawn.

Correction

In rule document 2022-23918 beginning on page 71748 in the issue of November 23, 2022, make the following correction:

§ 413.404 Corrected

On page 72288, starting in the first column, amendatory instruction twenty-three should read as follows:

23. Section 413.404 is amended by revising paragraphs (a)(2), (b)(2), (b)(3) introductory text, (b)(3)(i) heading, (b)(3)(i)(A) through (C), (b)(3)(ii) heading, (b)(3)(ii)(A) and (B), (b)(3)(ii)(C) introductory text, (b)(3)(ii)(C)(1) through (3), (c)(1)(i) and (ii), (c)(2)(i) through (iv), and (c)(3) to read as follows:

On the same page, in the second column:

Paragraph designation “(b)(3)(i)(C)(1)(i)” should read “(b)(3)(i)(C)(1)(i)”

Paragraph designation “(b)(3)(i)(C)(1)(ii)” should read “(b)(3)(i)(C)(1)(ii) and in the second line of paragraph (b)(3)(i)(C)(1)(ii), “(b)(3)(i)(C)(1)(i)” should read “(b)(3)(i)(C)(1)(i)”.

Paragraph designation “(b)(3)(i)(C)(2)” should read “(b)(3)(i)(C)(2)”.

Paragraph designation “(b)(3)(i)(C)(2)(i)” should read “(b)(3)(i)(C)(2)(i)”.

Paragraph designation “(b)(3)(i)(C)(2)(ii)” should read “(b)(3)(i)(C)(2)(ii)” and in the second line of paragraph (b)(3)(i)(C)(2)(ii), “(b)(3)(i)(C)(2)(i)” should read “(b)(3)(i)(C)(2)(i)”.

In paragraph (b)(3)(ii) starting in the first line, “Deceased donor SAC for TH/HOPOs—(A) Definition.” should read “Deceased donor SAC for TH/HOPOs—(A) Definition.”

On the same page, in the third column:

In paragraph (b)(3)(ii)(B), the heading “Calculating the deceased donor SAC” should read “Calculating the deceased donor SAC”.

Paragraph designation “(b)(3)(ii)(B)(1)” should read “(b)(3)(ii)(B)(1)” and in paragraph (b)(3)(ii)(B), the heading “Initial deceased donor SAC” should read “Initial deceased donor SAC.”

Paragraph designation “(b)(3)(ii)(B)(1)(i)” should read “(b)(3)(ii)(B)(1)(i)”.

Paragraph designation “(b)(3)(ii)(B)(1)(ii)” should “(b)(3)(ii)(B)(1)(ii)” and in the second line of paragraph (b)(3)(ii)(B)(1)(ii), “(b)(3)(ii)(B)(1)(i)” should read “(b)(3)(ii)(B)(1)(i)”.

Paragraph designation “(b)(3)(ii)(B)(2)” should read “(b)(3)(ii)(B)(2)”.

Paragraph designation “(b)(3)(ii)(B)(2)(i)” should read “(b)(3)(ii)(B)(2)(i)”.

Paragraph designation “(b)(3)(ii)(B)(2)(ii)” should read “(b)(3)(ii)(B)(2)(ii)” and in the second line of paragraph (b)(3)(ii)(B)(2)(ii), “(b)(3)(ii)(B)(2)(i)” should read “(b)(3)(ii)(B)(2)(i)”

In paragraph (b)(3)(ii)(C), the heading “Costs to develop the deceased donor SAC” should read “Costs to develop the deceased donor SAC”.

Paragraph designation “(b)(3)(ii)(C)(1)” should read “(b)(3)(ii)(C)(1)”.

Paragraph designation “(b)(3)(ii)(C)(2)” should read “(b)(3)(ii)(C)(2)”.

Paragraph designation “(b)(3)(ii)(C)(3)” should read “(b)(3)(ii)(C)(3)”.

Paragraph heading “(c)(2)(i) General.” should read “(c)(2)(i) General.”

On page 72289, in the first column:

Paragraph heading “(c)(2)(ii) Initial year.” should read “(c)(2)(ii) Initial year.”

Paragraph heading “(c)(2)(iii) Subsequent years.” should read “(c)(2)(iii) Subsequent years.”

Paragraph heading “(c)(2)(iv) SAC adjustments.” should read “(c)(2)(iv) SAC adjustments.”

Paragraph heading “(c)(3) Billing SACs for organs generally.” Should read “(c)(3) Billing SACs for organs generally.”

[FR Doc. C2-2022-23918 Filed 8-31-23; 8:45 am]

BILLING CODE 1505-01-D